DEPARTMENT OF ENERGY

Federal Energy Regulatory Commission

[Docket No. EL01-51-006, et al.]

The Detroit Edison Company, et al.; Electric Rate and Corporate Filings

January 31, 2005.

The following filings have been made with the Commission. The filings are listed in ascending order within each docket classification.

1. The Detroit Edison Company

[Docket Nos. EL01-51-006 and ER01-1649-006]

Take notice that on January 21, 2005, The Detroit Edison Company filed revised pages of its Distribution Interconnection Agreement with Dearborn Industrial Generation, LLC, pursuant to the Commission's order in Detroit Edison Company, 109 FERC ¶ 61,329 (2004).

Comment Date: 5 p.m. eastern time on February 11, 2005.

2. Condon Wind Power, LLC

[Docket No. ER02-305-004]

Take notice that on January 26, 2005, Condon Wind Power, LLC (Condon) tendered for filing its triennial updated market analysis in compliance with the Commission's Order issued on December 19, 2001 in Docket No. ER02-305-000.

Comment Date: 5 p.m. eastern time on February 16, 2005.

3. Midwest Independent Transmission System Operator, Inc.

[Docket Nos. ER02-2595-007]

Take notice that on January 19, 2005, the Midwest Independent Transmission System Operator, Inc. (Midwest ISO) tendered for filing revisions to Schedules 16 and 17 of its Open Access Transmission and Energy Markets Tariff, FERC Electric Tariff, Third Revised Volume No. 1.

The Midwest ISO states that the purpose of the proposed revisions is to increase the amortization period for certain schedule 16 and 17 pre-operating expenses from five (5) to seven (7) years. The Midwest ISO requests an effective date of April 1, 2005.

The Midwest ISO states that it has electronically served a copy of this filing, with its attachments, upon all Midwest ISO members, member representatives of transmission owners and non-transmission owners, the Midwest ISO advisory committee participants, policy subcommittee participants, as well as all state commissions within the region. In addition, the Midwest ISO states that the filing has been electronically posted on the Midwest ISO's Web site at http://www.midwestiso.org under the heading “Filings to FERC” for other interested parties in this matter. The Midwest ISO indicates that it will provide hard copies to any interested party upon request.

Comment Date: 5 p.m. eastern time on February 9, 2005.

4. Merrill Lynch Commodities, Inc.

[Docket No. ER04-925-002]

Take notice that on January 25, 2005, Merrill Lynch Commodities, Inc. (MLCI) tendered for filing a non-material change in characteristics that the Commission relied upon in granting MLCI market-based rate authorization under section 205 of the Federal Power Act.

Comment Date: 5 p.m. eastern time on February 15, 2005.

5. Oregon Electric Utility Company, Portland General Electric Company, Portland General Term Power, Procurement Company

[Docket No. ER04-1206-002]

Take notice that on January 21, 2005, Oregon Electric Utility Company (OEUC), Portland General Electric Company (PGE) and Portland General Term Power Procurement Company (PPC), filed a supplement to their January 18, 2004 filing in Docket No. ER04-1206-002 submitted in response to the deficiency letter issued December 17, 2004 in Docket Nos. ER04-1206-000 and 001.

Comment Date: 5 p.m. eastern time on February 10, 2005.

6. The Union Light, Heat and Power Company, The Cincinnati Gas & Electric Company

[Docket No. ER04-1248-001]

Take notice that on January 26, 2005, The Union Light, Heat and Power Company (ULH&P) and The Cincinnati Gas & Electric Company (CG&E) filed an amendment to their September 27, 2004 filing in response to the Commission's deficiency letter issued on January 11, 2005 in Docket No. ER04-1248-000.

ULH&P and CG&E state that copies of the filing were served on parties on the official service list in Docket No. ER04-1248.

Comment Date: 5 p.m. eastern time on February 16, 2005.

7. Kansas City Power & Light Company

[Docket No. ER05-177-007]

Take notice that on January 25, 2005, Kansas City Power & Light Company (KCPL) submitted a compliance filing pursuant to the Commission's Order issued December 28, 2004 in Docket No. ER05-177-000. KCPL states that this filing pertains to service schedules for the City of Salisbury, Missouri.

KCPL states that copies of the filing were served upon the City of Salisbury, Missouri as well as the Missouri Public Service Commission and the Kansas State Corporation Commission.

Comment Date: 5 p.m. eastern time on February 15, 2005.

8. Kansas City Power & Light Company

[Docket No. ER05-177-008]

Take notice that on January 25, 2005, Kansas City Power & Light Company (KCPL) submitted a compliance filing pursuant to the Commission's Order issued December 28, 2004 in Docket No. ER05-177-000. KCPL states that this filing pertains to service schedules for the City of Osawatomie, Kansas.

KCPL states that copies of the filing were served upon the City of Osawatomie, Kansas as well as the Missouri Public Service Commission and the Kansas State Corporation Commission.

Comment Date: 5 p.m. eastern time on February 15, 2005.

9. City Power Marketing LLC

[Docket No. ER05-330-001]

Take notice that on January 25, 2005, City Power Marketing LLC, submitted additional information regarding its December 14, 2004 filing in Docket No. ER05-330-000 for acceptance of initial rate schedule, request for waivers and blanket authority.

Comment Date: 5 p.m. eastern time on February 15, 2005.

10. MidAmerican Energy Company

[Docket No. ER05-482-000]

Take notice that on January 24, 2005, MidAmerican Energy Company (MidAmerican) filed with the Commission an Electric Transmission Interconnection Agreement between MidAmerican and Corn Belt Power Cooperative. MidAmerican requests an effective date of January 1, 2005 for the Agreement.

MidAmerican states it has served a copy of the filing on Corn Belt Power Cooperative, the Iowa Utilities Board, the Illinois Commerce Commission and the South Dakota Public Utilities Commission.

Comment Date: 5 p.m. eastern time on February 14, 2005.

11. Union Electric Company

[Docket No. ER05-485-000]

Take notice that on January 25, 2005, Union Electric Company d/b/a AmerenUE (AmerenUE) filed an amendment to the Interchange Agreement between AmerenUE and Associated Electric Cooperative, Incorporated (Associated). AmerenUE requests an effective date of March 26, 2005.

Ameren UE states that copies of the filing were served on Associated, the Midwest Independent Transmission System Operator, Inc. and the Missouri Public Service Commission.

Comment Date: 5 p.m. eastern time on February 15, 2005.

12. PJM Interconnection, L.L.C. Commonwealth Edison Company

[Docket No. ER05-488-000]

Take notice that on January 25, 2005, Commonwealth Edison Company (ComEd) and PJM Interconnection, L.L.C. (PJM) filed a Notice of Termination of Third Substitute First Revised Service Agreement No. 1032 under PJM's Open Access Transmission Tariff, Sixth Revised Volume No. 1, Financial Hold Harmless Service Agreement (Agreement). ComEd and PJM request that termination of the Agreement shall be effective once ComEd makes the payments specified in the settlement agreements with the Michigan and Wisconsin Utilities.

Comment Date: 5 p.m. eastern time on February 15, 2005.

13. Southern California Edison Company

[Docket No. ER05-489-000]

Take notice that on January 26, 2005, Southern California Edison Company (SCE) submitted revised rate sheets to the Amended and Restated Huntington Beach Generating Station Radial Lines Agreement (Agreement) between SCE and AES Huntington Beach, L.L.C. (AES). SCE requests an effective date of April 6, 2001.

SCE states that copies of the filing were served upon the Public Utilities Commission of the State of California and AES.

Comment Date: 5 p.m. eastern time on February 16, 2005.

14. Southwest Power Pool, Inc.

[Docket No. ER05-490-000]

Take notice that on January 26, 2005, Southwest Power Pool, Inc. (SPP) submitted for filing an executed service agreement for Firm Point-To-Point Transmission Service with Southwestern Public Service Company (Southwestern). SPP seeks an effective date of January 1, 2005 for the service agreement.

SPP states that Southwestern was served with a copy of this filing.

Comment Date: 5 p.m. eastern time on February 16, 2005.

15. ISO New England Inc. and New England Power Pool

[Docket No. ER05-492-000]

Take notice that on January 26, 2005, ISO New England Inc.(ISO) and the New England Power Pool (NEPOOL) Participants Committee filed an amendment to NEPOOL Market Rule 1, section 7.3.5, and the same amendment to section III.7.3.5 of the Transmission, Markets and Service Tariff of ISO New England Inc., FERC Electric Tariff No. 3. ISO and NEPOOL state that the amendments permit negative Financial Transmission Rights bids in the New England market.

ISO and NEPOOL state that copies of the filing were sent to the New England state governors and regulatory agencies and the participants in NEPOOL.

Comment Date: 5 p.m. eastern time on February 16, 2005.

16. Saracen Energy LP

[Docket No. ER05-493-000]

Take notice that on January 26, 2005, Saracen Energy LP submitted an application for Commission authorization to engage in wholesale sale of electricity at market-based rates, Commission acceptance of its Rate Schedule FERC No. 1, the granting of certain blanket approvals, and the waiver of certain of the Commission's Regulations.

Comment Date: 5 p.m. eastern time on February 16, 2005.

17. Saracen Energy Power Advisors LP

[Docket No. ER05-494-000]

Take notice that on January 26, 2005, Saracen Energy Power Advisors LP submitted an application for Commission authorization to engage in wholesale sale of electricity at market-based rates, Commission acceptance of its Rate Schedule FERC

No. 1, the granting of certain blanket approvals, and the waiver of certain of the Commission's Regulations.

Comment Date: 5 p.m. eastern time on February 16, 2005.

18. Saracen Merchant Energy LP

[Docket No. ER05-495-000]

Take notice that on January 26, 2005, Saracen Merchant Energy LP submitted an application for Commission authorization to engage in wholesale sale of electricity at market-based rates, Commission acceptance of its Rate Schedule FERC No. 1, the granting of certain blanket approvals, and the waiver of certain of the Commission's Regulations.

Comment Date: 5 p.m. eastern time on February 16, 2005.

19. K2 Development LLC

[Docket No. ER05-496-000]

Take notice that on January 26, 2005, K2 Development LLC submitted a Notice of Cancellation of its Rate Schedule FERC No. 1.

Comment Date: 5 p.m. eastern time on February 16, 2005.

20. United States Department of Energy Western Area Power Administration

[Docket No. NJ05-1-000]

Take notice that on January 26, 2005, the United States Department of Energy—Western Area Power Administration (western), filed a non-jurisdictional modification to its Open Access Transmission Tariff (OATT), including Large Generator Interconnection Procedures and Large Generator Interconnection Agreement. Western has requested an effective date of February 25, 2005.

Comment Date: 5 p.m. eastern time on February 16, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-453 Filed 2-4-05; 8:45 am]

BILLING CODE 6717-01-P